DEPARTMENT OF DEFENSE

Office of the Secretary

[Docket ID DoD-2019-OS-0124]

Proposed Collection; Comment Request

AGENCY: Department of Defense Education Activity, DoD.

ACTION: Information collection notice.

SUMMARY: In compliance with the Paperwork Reduction Act of 1995, the Department of Defense Education Activity announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 13, 2020.

ADDRESSES: You may submit comments, identified by docket number and title, by any of the following methods:

• Federal eRulemaking Portal: http://www.regulations.gov. Follow the instructions for submitting comments.

• Mail: Department of Defense, Office of the Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to Department of Defense Education Activity, ATTN: Kathleen Facon, 4800 Mark Center Dr., Alexandria, VA 22350-1400 Tel: (571) 372-5834 DSN: (312) 372-5834.

SUPPLEMENTARY INFORMATION:

Title; Associated Form; and OMB Number: Application for DoD Impact Aid for Children with Severe Disabilities; SD Form 816 and SD 816c; OMB Control Number 0704-0425.

Needs and Uses: The information collection requirement is necessary to authorize DoD funds for local educational agencies (LEAs) that educate military dependent students with severe disabilities that meet certain criteria. This application will be requested of military-impacted LEAs to determine if they meet the DoD criteria to receive compensation for the cost of educating military dependent students with severe disabilities.

Affected Public: State, Local, or Tribal governments.

Annual Burden Hours: 400.

Number of Respondents: 50.

Responses per Respondent: 1.

Annual Responses: 50.

Average Burden per Response: 8 hours.

Frequency: Annually.

The data collection consists of an application and signature sheet that must be submitted by email or fax with the original signature clearly visible on the document. The application is identified as Secretary of Defense Form 816 (SD 816), with SD Form 816C to be used as a continuation page if necessary. In order for DoD to compute the maximum payment amount, the LEA will need to determine and provide the following information in its application. First, the LEA must provide the special education costs of individual military dependent children who have severe disabilities and meet the threshold for payments (at least two military dependents with severe disabilities and the cost per student must be at least five times the national average or three times the state average for students with disabilities, whichever is lower). These averages are provided to the LEAs by DoD in the application guidelines and acknowledged by the LEA in the application. Second, LEAs are required to identify the number of eligible children who were residing on-base or off-base during the previous school year. Third, the LEA must provide its banking information to receive payment.

Dated: November 6, 2019.
Aaron T. Siegel,
Alternate OSD Federal Register Liaison Officer, Department of Defense.

[FR Doc. 2019-24579 Filed 11-8-19; 8:45 am]

BILLING CODE 5001-06-P